DEPARTMENT OF TRANSPORTATION

Federal Aviation Administration

14 CFR Part 71

[Docket No. FAA-2010-1263; Airspace Docket No. 10-AWP-17]

Amendment of VOR Federal Airways V-2 and V-21; Hawaii

AGENCY: Federal Aviation Administration (FAA), DOT.

ACTION: Final rule.

SUMMARY: This action amends two VHF Omnidirectional Range (VOR) Federal airway legal descriptions in the State of Hawaii. The FAA is taking this action to remove exclusions to restricted airspace areas that have been removed from the National Airspace System (NAS).

DATES: Effective date 0901 UTC, March 10, 2011. The Director of the Federal Register approves this incorporation by reference action under 1 CFR part 51, subject to the annual revision of FAA Order 7400.9 and publication of conforming amendments.

FOR FURTHER INFORMATION CONTACT: Ken McElroy, Airspace Regulation and ATC Procedures Group, Office of Mission Support Services, Federal Aviation Administration, 800 Independence Avenue, SW., Washington, DC 20591; telephone: (202) 267-8783.

SUPPLEMENTARY INFORMATION:

History

The FAA Honolulu Control Facility conducted a review of the facility airspace areas and found that two Federal Airways, V-2 and V-21, contained exclusions to restricted airspace that was removed from the NAS several years ago. Accordingly, since this is an administrative change and does not involve a change in the boundaries, altitudes or operating procedures of this airspace, notice and public procedure under Title 5 U.S.C. 553(b) are unnecessary.

The Rule

This action amends Title 14 Code of Federal Regulations (14 CFR) part 71 by amending two VOR Federal Airways, V-2 and V-21, located in the State of Hawaii by removing all references to Restricted Area R-3104A and R-3104B from the legal descriptions.

Hawaiian VOR Federal Airways are listed in paragraph 6010(c) of FAA Order 7400.9U dated August 18, 2010, and effective September 15, 2010, which is incorporated by reference in 14 CFR 71.1. The Federal airways listed in this document will be revised subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends two VOR Federal airways in Hawaii.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, signed August 18, 2010, and effective September 15, 2010, is amended as follows:

Paragraph 6010(c) Hawaiian VOR Federal Airways.

* * * * *

V-2 [Amend]

From Honolulu, HI, via Lanai, HI; INT Lanai 106° and Upolu Point, HI, 305° radials; Upolu Point (4 miles N and 3 miles S of centerline); INT Upolu Point 093° and Hilo, HI, 336° radials; Hilo.

* * * * *

V-21 [Amend]

From Honolulu, HI, via INT Honolulu 182° and Lanai, HI, 289° radials; Lanai; INT Lanai 106° and Hilo, HI, 033° radials; INT Upolu Point, HI, 093° and Hilo 078° radials; to INT Hilo 078° and long. 152°14′00″ W.

Issued in Washington, DC on January 7, 2011.
Edith V. Parish,
Manager, Airspace Regulation and ATC Procedures Group.

[FR Doc. 2011-823 Filed 1-14-11; 8:45 am]

BILLING CODE 4910-13-P